DEPARTMENT OF TRANSPORTATION

Surface Transportation Board

[STB Finance Docket No. 34325]

R.J. Corman Equipment Company, LLC—Acquisition Exemption—Line of Lexington & Ohio Railroad Co., Inc.

R.J. Corman Equipment Company, LLC (RJCE), a Class III rail carrier, has filed a verified notice of exemption under 49 CFR 1150.41 to acquire approximately 14.9 miles of rail line from the Lexington & Ohio Railroad Co., Inc. located between approximately milepost 23.9 LL in Lexington, KY, and approximately milepost 9.0 LL in Versailles, KY, in Fayette and Woodford Counties, KY. RJCE certifies that its projected revenues as a result of this transaction will not result in the creation of a Class I or Class II rail carrier.

RJCE reported that the parties intended to consummate the transaction on or soon after March 28, 2003, the effective of the exemption (7 days after the exemption was filed).

This transaction is related to a simultaneously filed verified notice of exemption in STB Finance Docket No. 34326, R.J. Corman Railroad Company/Central Kentucky Lines—Lease and Operation Exemption—Line of R.J. Corman Equipment Company, LLC, wherein R.J. Corman Railroad Company/Central Kentucky Lines seeks to lease and operate the line being acquired by RJCE here.

If the notice contains false or misleading information, the exemption is void ab initio. Petitions to revoke the exemption under 49 U.S.C. 10502(d) may be filed at any time. The filing of a petition to revoke will not automatically stay the transaction.

An original and 10 copies of all pleadings, referring to STB Finance Docket No. 34325, must be filed with the Surface Transportation Board, 1925 K Street, NW., Washington, DC 20423-0001. In addition, one copy of each pleading must be served on Edward J. Fishman, Kirkpatrick & Lockhart LLP, 1800 Massachusetts Avenue—2nd Floor, Washington, DC 20036.

Board decisions and notices are available on our Web site at http://www.stb.dot.gov.

Decided: April 4, 2003.
By the Board, David M. Konschnik, Director, Office of Proceedings.
Vernon A. Williams,
Secretary.

[FR Doc. 03-8924 Filed 4-11-03; 8:45 am]

BILLING CODE 4915-00-P